DEPARTMENT OF THE TREASURY

Office of the Comptroller of the Currency

FEDERAL DEPOSIT INSURANCE CORPORATION

Agency Information Collection Activities; Submission for Office of Management and Budget Review; Comment Request; Transfer Agent Registration and Amendment Form

AGENCY: Office of the Comptroller of the Currency (OCC), Treasury; and Federal Deposit Insurance Corporation (FDIC) . ACTION: Notice and Request for Comment.

SUMMARY: The Office of the Comptroller of the Currency (OCC) and Federal Deposit Insurance Corporation (FDIC) are announcing that a proposed collection of information renewal is being submitted to the Office of Management and Budget (OMB) for review and clearance under the Paperwork Reduction Act of 1995 (PRA).

DATES: Comments must be submitted on or before August 19, 2013.

ADDRESSES:

OCC: Because paper mail in the Washington, DC area and at the OCC is subject to delay, commenters are encouraged to submit comments by email if possible. Comments may be sent to: Legislative and Regulatory Activities Division, Office of the Comptroller of the Currency, Attention: 1557-0124, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

FDIC: You may submit comments, which should refer to “Transfer Agent Registration and Amendment Form, 3064-0026” by any of the following methods:

• http://www.FDIC.gov/regulations/laws/federal/notices.html.

• Email: comments@FDIC.gov. Include “Transfer Agent Registration and Amendment Form, 3064-0026” in the subject line of the message.

• Mail: Gary A. Kuiper (202 898-3877, Attn: Comments, Federal Deposit Insurance Corporation, 550 17th Street NW., NYA-5046, Washington, DC 20429.

• Hand Delivery: Comments may be hand delivered to the guard station at the rear of the 550 17th Street Building (located on F Street) on business days between 7 a.m. and 5 p.m.

Additionally, please send a copy of your comments by mail to: OCC Desk Officer, 1557-0124 or 3064-0026, U.S. Office of Management and Budget, 725 17th Street NW., #10235, Washington, DC 20503, or by email to: oira_submission@omb.eop.gov.

Public Inspection: All comments received will be posted without change to http://www.fdic.gov/regulations/laws/federal/notices.html including any personal information provided.

FOR FURTHER INFORMATION CONTACT: For further information about the information collection discussed in this notice, please contact any of the agency clearance officers whose names appear below.

OCC: Johnny Vilela or Mary H. Gottlieb, OCC Clearance Officers, (202) 649-5490, Legislative and Regulatory Activities Division, Office of the Comptroller of the Currency, 400 7th Street SW., Suite 3E-218, Mail Stop 9W-11, Washington, DC 20219.

FDIC: Gary A. Kuiper, (202) 898-3877, Legal Division, Federal Deposit Insurance Corporation, 550 17th Street NW., NYA-5046, Washington, DC 20429.

SUPPLEMENTARY INFORMATION: In compliance with 44 U.S.C. 3507, the OCC and FDIC are submitting the following proposed collection of information to OMB for review and clearance.

Report Title: Transfer Agent Registration and Amendment Form.

Form Number: TA-1.

Frequency of Response: On occasion.

Affected Public: Business or other for-profit.

Estimated Time per Response: 1.25 hours: registration, 10 minutes: amendment.

OCC

OMB Number: 1557-0124.

Estimated Number of Respondents: 2 registrations, 15 amendments.

Estimated Total Annual Burden: 6 hours.

FDIC

OMB Number: 3064-0026.

Estimated Number of Respondents: 2 registrations, 13 amendments.

Estimated Total Annual Burden: 5 hours.

Abstract

The Securities Exchange Act of 1934 (Act) requires any person acting as a transfer agent to register as such and to amend registration information when it changes. Section 17A(c) of the Act requires all transfer agents for securities registered under section 12 of the Act to register “by filing with the appropriate regulatory agency . . . an application for registration in such form and containing such information and documents . . . as such appropriate regulatory agency may prescribe as necessary or appropriate in furtherance of the purposes of this section.” In general, an entity performing transfer agent functions for a security is required to register if the security is registered on a national securities exchange and if the issuer has total assets of $10 million or more and a class of equity security held of record by 500 or more persons.

General Description of Reports

This information collection is mandatory pursuant to Sections 17A(c), 17(a)(3), and 23(a) of the Act, as amended (15 U.S.C. 78q-1(c), 78q(a)(3), and 78w(a)) (FDIC). Sections 12, 13, 14(a), 14(c), 14(d), 14(f), and 16 of the Act, as amended (15 U.S.C. 781, 78m, 78n(a), 78n(c), 78n(d), 78n(f), and 78p (OCC). Additionally, § 341.3 of the FDIC's Rules and Regulations implement the provisions of the Act. The registrations are public filings and, therefore, are not confidential.

On May 3, 2013, the OCC and FDIC published in the Federal Register (78 FR 26113), a 60-day notice requesting public comment on the proposed collection of information. They received no comments.

Request for Comment

The Agencies invite comment on:

(a) Whether the collections of information are necessary for the proper performance of the Agencies' functions, including whether the information has practical utility;

(b) The accuracy of the Agencies' estimates of the burden of the information collections, including the validity of the methodology and assumptions used;

(c) Ways to enhance the quality, utility, and clarity of the information to be collected; and

(d) Ways to minimize the burden of information collections on respondents, including through the use of automated collection techniques or other forms of information technology.

Comments submitted in response to this notice will be shared among the Agencies. All comments will become a matter of public record.

Dated: July 15, 2013.
Michele Meyer,
Assistant Director, Legislative and Regulatory Activities Division.
Dated at Washington, DC, this 11th day of July, 2013.
Federal Deposit Insurance Corporation.
Robert E. Feldman,
Executive Secretary.

[FR Doc. 2013-17384 Filed 7-18-13; 8:45 am]

BILLING CODE 4810-33-P ; 6714-01-P